COMMITTEE FOR PURCHASE FROM PEOPLE WHO ARE BLIND OR SEVERELY DISABLED

Procurement List Proposed Additions

AGENCY: Committee for Purchase From People Who Are Blind or Severely Disabled.

ACTION: Proposed Additions to the Procurement List.

SUMMARY: The Committee is proposing to add products and service to the Procurement List that will be furnished by nonprofit agencies employing persons who are blind or have other severe disabilities.

DATES: Comments Must Be Received on or Before: 12/15/2011.

ADDRESSES: Committee for Purchase From People Who Are Blind or Severely Disabled, Jefferson Plaza 2, Suite 10800, 1421 Jefferson Davis Highway, Arlington, Virginia 22202-3259.

For Further Information or to Submit Comments Contact: Patricia Briscoe, Telephone: (703) 603-7740, Fax: (703) 603-0655, or email CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products

NSN: 8040-00-NIB-0019—Dispenser, Disposable, Permanent Adhesive Tape.

NPA: Industries for the Blind, Inc., West Allis, WI.

Contracting Activity: General Services Administration/FSS Tools Acquisition Division II, Kansas City, MO.

Coverage: B-List for the Broad Government Requirement as aggregated by the General Services Administration.

NSN: PGC89201—Instant Corn Soy Blend.

NPA: Transylvania Vocational Services, Inc., Brevard, NC.

Contracting Activity: Department of Agriculture, Farm Service Agency, Agriculture Stabilization and Conservation Service, Kansas City, MO.

Coverage: C-List for 100% of the requirement of the U.S. Department of Agriculture as aggregated by the U.S. Department of Agriculture, Farm Service Agency, Agriculture Stabilization and Conservation Service, Kansas City, MO.

Service

Service Type/Location: Base Supply Center, Joint Base Andrews Naval Air Facility Washington, 1500 West Perimeter Road, Suite 2780, Joint Base Andrews, MD.

NPA: Blind Industries & Services of Maryland, Baltimore, MD,

Contracting Activity: Dept of the Air Force, FA2860 11 Cons Lgc, Andrews AFB, MD.

Patricia Briscoe,
Deputy Director, Business Operations, (Pricing and Information Management).

[FR Doc. 2011-29288 Filed 11-10-11; 8:45 am]

BILLING CODE 6353-01-P